DEPARTMENT OF EDUCATION

[Docket No. ED-2013-ICCD-0111]

Agency Information Collection Activities; Comment Request; Student Assistance General Provisions—Subpart K—Cash Management

AGENCY: Federal Student Aid (FSA), Department of Education (ED).

ACTION: Notice.

SUMMARY: In accordance with the Paperwork Reduction Act of 1995 (44 U.S.C. chapter 3501 et seq.), ED is proposing a revision of an existing information collection.

DATES: Interested persons are invited to submit comments on or before October 22, 2013.

ADDRESSES: Comments submitted in response to this notice should be submitted electronically through the Federal eRulemaking Portal at http://www.regulations.gov by selecting Docket ID number ED-2013-ICCD-0111 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW, LBJ, Room 2E103, Washington, DC 20202-4537.

FOR FURTHER INFORMATION CONTACT: Kate Mullan, 202-401-0563 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Student Assistance General Provisions—Subpart K—Cash Management.

OMB Control Number: 1845-0049.

Type of Review: Revision of an existing information collection.

Respondents/Affected Public: Private Sector, Individuals or households, State, Local, or Tribal Governments.

Total Estimated Number of Annual Responses: 308,445.

Total Estimated Number of Annual Burden Hours: 29,516.

Abstract: This is a request for the revision of the information collection for the regulations that govern the application for and approval by the Secretary of assessments by a private test publisher or State that are used to measure a student's skills and abilities to determine eligibility for assistance through the Title IV student financial assistance programs authorized under the Higher Education Act of 1965, as amended, when a student does not have a high school diploma or its recognized equivalent. As of July 1, 2012, the new law eliminated all but the completion of a homeschool program as an eligibility alternative previously available. Due to these changes, there is a decreasing pool of student applicants who would be eligible to take a Department approved ability to benefit exam to determine Title IV student aid eligibility.

Kate Mullan,
Acting Director, Information Collection Clearance Division, Privacy, Information and Records Management Services, Office of Management.

[FR Doc. 2013-20587 Filed 8-22-13; 8:45 am]

BILLING CODE 4000-01-P